DEPARTMENT OF TRANSPORTATION

[Docket Number: OST-95-950]

Notice of Request for Extension of a Previously Approved Collection

AGENCY: Office of the Secretary, Department of Transportation.

ACTION: Notice and request for comments.

SUMMARY: In compliance with the Paperwork Reduction Act of 1995, Public Law 104-13, this notice announces the Department of Transportation's (DOT) intention to request extension of a previously approved information collection.

DATES: Comments on this notice must be received on or before December 30, 2008.

ADDRESSES: You may submit a comment (identified by DOT Docket Number OST-95-950) by any of the following methods:

• Web site: http://regulations.gov. Follow the instructions for submitting comments on the DOT electronic docket site.

• Fax: 1-202-493-2251

• Mail: Docket Management Facility; U.S. Department of Transportation, 1200 New Jersey Avenue, SE., West Building, Room W12-140, Washington, DC 20590-001.

• Hand Delivery: Room W12-140 on the ground level of the West Building, 1200 New Jersey Avenue, SE., Washington, DC, between 9 a.m. and 5 p.m., Monday through Friday, except Wednesday and Federal Holidays.

Instructions: All comments must include the agency name and Docket Number OST-95-950. Note that all comments received will be posted without change to http://regulations.gov, including name and personal information provided. You should know that anyone is able to search the electronic from of all comments received into any of our dockets by the name of the individual submitting the comment (or signing the comment, if submitted on behalf of an association, business, labor union, etc.).

Docket: For access to the docket to read background documents or comments, go to http://regulations.gov at any time or to Room W12-140 on the ground level of the West Building, 1200 New Jersey Avenue, SE., Washington, DC, between 9 a.m. and 5 a.m., Monday through Friday, except Wednesday and federal holidays.

If you wish to receive confirmation of receipt of your written comments, please include a self-addressed, stamped postcard with the following statement: “Comments on Docket OST-95-950”. The Docket Clerk will date stamp the postcard prior to returning it to you via the U.S. mail. Please note that due to delays in the delivery of U.S. mail to Federal offices in Washington, DC, we recommend that persons consider an alternative method (Internet, fax, or professional delivery service) to submit comments to the docket and ensure their timely receipt at U.S. DOT.

FOR FURTHER INFORMATION CONTACT: Aleta Best, Office of the Assistant Secretary for Aviation and International Affairs, Office of the Secretary, U.S. Department of Transportation, 1200 New Jersey Avenue, SE., Washington, DC 20590, (202) 493-0797.

SUPPLEMENTARY INFORMATION: Title: Passenger Manifest Information.

OMB Control Number: 2105-0534.

Expiration Date: March 31, 2009.

Type of Request: Extension of a previously approved collection.

Abstract: Public Law 101-604 (entitled the Aviation Security Improvement Act of 1990, or “ASIA 90”, and later codified as 49 U.S.C. 44909) requires that certificated air carriers and large foreign air carriers collect the full name of each U.S. citizen traveling on flight segments to or from the United States and solicit a contact name and telephone number. In case of an aviation disaster, airlines would be required to provide the information to the Department of State and, in certain circumstances, to the National Transportation Safety Board. Each carrier has developed its own collection system. The Passenger Manifest Information, Final Rule (14 CRF 243) was published in the Federal Register, Vol.63, No.32 (February 18, 1998). The rule was effective March 20, 1998.

Respondents: All U.S. air carriers, foreign air carriers, and travel agents doing business in the United States, and the traveling public.

Estimated Total Annual Burden: Annual reporting burden for this data collection is estimated at 259,000 hours for all travel agents and airline ticket agents and 259,000 hours for air travelers, based on 45 seconds for non-frequent fliers and 15 seconds for frequent fliers, for the approximately 33% of international itineraries that involve personal contact. Most of this data collection (third party notification) is accomplished through highly automated computerized systems.

Estimated Number of Respondents: 16,000, excluding air travelers.

Estimated Time per Response: At 45 seconds for non-frequent fliers and 15 seconds for frequent fliers, for the approximately 33% of international itineraries that involve personal contact.

Comments are invited on: (a) Whether this collection of information (third party notification) is necessary for the proper performance of the agency, including whether the information will have practical utility; (b) the accuracy of the agency's estimate of burden of the proposed collection of information; (c) ways to enhance the quality, utility, and clarity of the information collected; and (d) ways to minimize the burden of the collection of information on the respondents, including through the use of automated techniques or other forms of information technology.

All responses to this notice will be summarized and included in the request for OMB approval. All comments will also become a matter of public record.

Issued in Washington, DC.
Todd M. Homan,
Director, Office of Aviation Analysis.

[FR Doc. E8-25988 Filed 10-28-08; 11:15 am]

BILLING CODE 4910-9X-P